DEPARTMENT OF COMMERCE

National Oceanic and Atmospheric Administration

[I.D. 122904A]

Fisheries of the Gulf of Mexico and South Atlantic Spiny Lobster Data Workshop

AGENCY: National Marine Fisheries Service (NMFS), National Oceanic and Atmospheric Administration (NOAA), Commerce.

ACTION: Notice of data workshop for Gulf of Mexico and South Atlantic Spiny Lobster.

SUMMARY: The State of Florida, along with the Gulf of Mexico Fishery Management Council (GMFMC) and the South Atlantic Fishery Management Council (SAFMC), will hold a data workshop, the first in a series of three workshops, to evaluate the stock status of the spiny lobster.

DATES: The data workshop will convene at 8:30 a.m. on Tuesday, January 25, 2005, and conclude no later that 5 p.m. on Thursday, January 27, 2005.

ADDRESSES: The data workshop will be held at the Florida State Regional Service Center, 2796 Overseas Highway, Suite 104, Marathon, FL.

Council address: Gulf of Mexico Fishery Management Council, 3018 U.S. Highway 301, North, Suite 1000, Tampa, FL 33619.

FOR FURTHER INFORMATION CONTACT: Stu Kennedy, Gulf of Mexico Fishery Management Council; telephone: 813-228-2815.

SUPPLEMENTARY INFORMATION: A data workshop will be held to generate an assessment data set on the Gulf of Mexico/South Atlantic Spiny Lobster. The assessment data set will include catch statistics, discard estimates, length and age composition, fishery descriptions, biological sampling intensity, fishery dependent and fishery independent monitoring results and life history characteristics. Workshop participants will draft preliminary Assessment Report sections. Participants include data collectors, database managers, stock assessment scientists, biologists, fisheries researchers, fishermen, environmentalists, Council members, international experts and staff of Councils, Commissions, and state and Federal agencies.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

These meetings are physically accessible to people with disabilities. Requests for sign language interpretation or other auxiliary aids should be directed to Dawn Aring at the Council (see ADDRESSES) by January 7, 2005.

Dated: December 30, 2004.
Alan D. Risenhoover,
Acting Director, Office of Sustainable Fisheries, National Marine Fisheries Service.

[FR Doc. E4-3931 Filed 1-4-05; 8:45 am]

BILLING CODE 3510-22-S